DEPARTMENT OF ENERGY

Federal Energy Regulatory Commission

[P-2299—057]

Modesto Irrigation District; Turlock Irrigation District; Agenda for Meeting To Discuss the 10-Year Fisheries Summary Report for the Don Pedro Project

July 14, 2006.

The Modesto Irrigation District and the Turlock Irrigation District (licensees) filed a Fisheries Summary Report on March 25, 2005, pursuant to Article 58 of the license, as amended. 1 A notice issued by the Commission on June 23, 2006 stated that Commission staff will conduct a public meeting based on the filings of the licensees' report and comments received to date. The meeting will be held on Tuesday, July 25, 2006, from 9 a.m. to 5 p.m. (PST) at the John E. Moss Federal Building and Courthouse, 650 Capitol Mall, Stanford Room, 1st floor, Sacramento, California 95814. The following is the agenda for the meeting:

1 See 76 FERC ¶ 61, 117 (1996)

9 a.m.-9:15 a.m. Introductions/Purpose for Meeting (FERC).

9:15 a.m.-9:30 a.m. History/Background Overview (FERC).

9:30 a.m.-10:30 a.m. Technical Review/Assessment/Questions (FERC) .

10:30 a.m.-10:45 a.m. Break.

10:45 a.m.-noon Agencies/Licensees/NGOs Presentations/Statements/Questions.

Noon-1:15 p.m. Lunch.

1:15 p.m.-2:30 p.m. Agencies/Licensees/NGOs Presentations/Statements/Questions.

2:30 p.m.-2:45 p.m. Break.

2:45 p.m.-5 p.m. Discussion.

The June 23 notice stated that the meeting will be recorded by a stenographer and become part of the formal record of the Commission proceeding on the project. The meeting will be recorded by a stenographer until the afternoon break. After the break during the agenda discussion period, the meeting will not be recorded by a stenographer.

Any questions about this notice should be directed to Philip Scordelis at the Federal Energy Regulatory Commission, (415) 369-3335, or by e-mail at philip.scordelis@ferc.gov.

Magalie R. Salas,
Secretary.

[FR Doc. E6-11661 Filed 7-21-06; 8:45 am]

BILLING CODE 6717-01-P